DEPARTMENT OF AGRICULTURE

Forest Service

Information Collection; Day Use on Urban National Forests

AGENCY: Forest Service, USDA.

ACTION: Notice; request for comment.

SUMMARY: In accordance with the Paperwork Reduction Act of 1995, the Forest Service is seeking comments from all interested individuals and organizations on the extension with no revision of a currently approved information collection, Day Use on the National Forests of Southern California.

DATES: Comments must be received in writing on or before November 18, 2008 to be assured of consideration. Comments received after that date will be considered to the extent practicable.

ADDRESSES: Comments concerning this notice should be addressed to Dr. Deborah J. Chavez, Pacific Southwest Research Station, 4955 Canyon Crest Drive, Riverside, CA 92507. Comments may also be submitted via facsimile to 951-680-1501, or send an e-mail to dchavez@fs.fed.us.

The public may inspect comments received at the Pacific Southwest Research Station's Riverside Fire Lab at 4955 Canyon Crest Drive, Riverside, CA during normal business hours. Visitors are encouraged to call ahead to 951-680-1500 to facilitate entry to the building.

FOR FURTHER INFORMATION CONTACT: Dr. Deborah J. Chavez, Pacific Southwest Research Station, 951-680-1558, e-mail to dchavez@fs.fed.us. Individuals who use telecommunication devices for the deaf (TDD) may call the Federal Relay Service (FRS) at 1-800-877-8339 twenty-four hours a day, every day of the year, including holidays.

SUPPLEMENTARY INFORMATION: Title: Day Use on Urban Proximate National Forests.

OMB Number: 0596-0129.

Expiration Date of Approval: 07/31/2009.

Type of Request: Extension.

Abstract: The Forest Service is seeking to renew OMB approval to collect information from visitors at outdoor recreation day-use sites (developed picnic areas, general forest day-use sites, off-road staging areas, trails, etc.) on urban-proximate national forests land.

Users of urban-proximate national forests (national forests within 1 hour driving distance of 1 million or more people) come from a variety of ethnic/racial, income, age, educational, and other socio-demographic backgrounds. The activities pursued, information sources utilized, and site attributes preferred are just some of the items affected by these differences.

Past studies have provided baseline information, from which managers have made decisions, revised forest plans, and renovated/redesigned recreation sites. Additional information is necessary for the urban proximate national forest managers to validate previous results and maintain information regarding the continuously changing profile of the visitor population. Without this information, the Forest Service will be ill-equipped to implement changes in response to day use visitors' needs and preferences.

Sites, dates of data collection, and individuals participating in the study are selected randomly. Survey instruments are available in English and Spanish, and research teams are bilingual. Participation is voluntary and individuals provide responses to questions covering the following topics:

• Socio-demographics.

• National Forest visitation history and patterns.

• Activity patterns.

• Information and communication.

• Site amenities/characteristics.

• Perceptions about the environment and land uses.

• General comments.

The Agency has used previously collected data to create forest newspapers, add site renovations to existing picnic areas, and in forest planning. The Forest Service has presented previous survey results at local, national, and international meetings. The Agency has published collected data in various outlets. Future data collections under this OMB number will be utilized in a similar manner, as well as provide opportunities for comparisons of visitor profiles and use shifts over time.

Dr. Deborah J. Chavez, of the Pacific Southwest Research Station, will evaluate and analyze the collected data. Consequences of not collecting these data include, but are not limited to:

(a) Decreased service delivery due to decreased quality and breadth of information provided to resource managers regarding the socio-demographic profile of visitors, visitation history and patterns, information and communication, site amenities/characteristics, perceptions about the environment and land uses;

(b) Decreased ability to continue and expand approved research work unit's assigned study topics, such as understanding visitor profiles;

(c) Increased response time for inquiries into topics from managers and university contacts;

(d) Increased dependency on cooperator availability to carry out research unit mission; and

(e) Loss of information represented in follow-up longitudinal studies.

Estimate of Annual Burden: 15 minutes.

Type of Respondents: Individuals.

Estimated Annual Number of Respondents: 600.

Estimated Annual Number of Responses per Respondent: 1.

Estimated Total Annual Burden on Respondents: 150 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 12, 2008.
Ann M. Bartuska,
Deputy Chief for Research & Development.

[FR Doc. E8-21994 Filed 9-18-08; 8:45 am]

BILLING CODE 3410-11-P